DEPARTMENT OF HEALTH AND HUMAN SERVICES

Centers for Disease Control and Prevention

[60Day-24-0792; Docket No. CDC-2024-0058]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled the Environmental Health Specialists Network (EHS-Net) Program. The goal of this food safety research program is to collect data in retail food establishments that will identify and address environmental factors associated with retail-related foodborne illness and outbreaks.

DATES: CDC must receive written comments on or before October 8, 2024.

ADDRESSES: You may submit comments, identified by Docket No. CDC-2024-0058 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Environmental Health Specialists Network (EHS-Net) Program (OMB Control No. 0920-0792, Exp. 1/31/2025)—Revision—National Center for Environmental Health (NCEH), Centers for Disease Control and Prevention (CDC).

Background and Brief Description

The National Center for Environmental Health (NCEH), Centers for Disease Control and Prevention (CDC), is requesting a three-year Paperwork Reduction Act (PRA) approval for a Revision of this Generic Clearance for data collections to support research focused on identifying and addressing environmental factors associated with foodborne illness outbreaks and other food safety issues. These data are essential to environmental public health regulators' efforts to respond more effectively to and prevent future outbreaks and food safety-associated events.

An estimated 47.8 million foodborne illnesses occur annually in the United States, resulting in 127,839 hospitalizations, and 3,037 deaths annually. These figures indicate that foodborne illness is a significant problem in the U.S. Reducing foodborne illness requires identification and understanding of the environmental factors that cause these illnesses—CDC needs to know how and why food becomes contaminated with foodborne illness pathogens. This information can then be used to determine effective food safety prevention methods. Ultimately, these actions can lead to increased regulatory program effectiveness and decreased foodborne illness. The purpose of this food safety research program is to identify and understand environmental factors associated with foodborne illness and outbreaks. This program is conducted by the Environmental Health Specialists Network (EHS-Net), a collaborative project of CDC, FDA, USDA, and local and state sites.

Environmental factors associated with foodborne illness include both food safety practices (e.g., inadequate cleaning practices) and the factors in the environment associated with those practices (e.g., worker and retail food establishment characteristics). To understand these factors, we need to collect data from those who prepare food (i.e., food workers) and on the environments in which the food is prepared (i.e., retail food establishment kitchens). Thus, data collection methods for this generic package include: (1) manager and worker interviews/information collection instruments; and (2) observation of kitchen environments. Both methods allow data collection on food safety practices and environmental factors associated with those practices.

To date, EHS-Net has conducted six studies under this generic clearance. The data from these studies have been disseminated to environmental public health/food safety regulatory programs and the food industry in the form of presentations at conferences and meetings, scientific journal publications, and website postings. Data from these studies have been presented in thirteen articles in peer-reviewed scientific journals, in multiple presentations at national food safety conferences, and on CDC's website.

The current package is a Revision of the previous PRA clearance from 2021. This package includes the potential for sites to offer incentives to participants in EHS-Net data collection activities. This will not result in an increased cost to the federal government because the cost of incentives is included in the existing EHS-Net cooperative agreement. CDC requests OMB approval for an estimated 844 annual burden hours. There is no change in the estimated annualized burden hours from the previous PRA clearance and there is no cost to respondents other than their time to participate.

Estimated Annualized Burden Hours
Type of respondents | Form name | Number of respondents | Number of responses per respondent | Average burden per response (in hours) | Total burden (in hours)
Retail managers | Manager Telephone Recruiting Script | 889 | 1 | 3/60 | 44
| Manager Interview/Assessment | 400 | 1 | 30/60 | 200
| Observation | 400 | 1 | 30/60 | 200
Retail food workers | Worker Recruiting/Informed Consent Script | 2,000 | 1 | 2/60 | 67
| Worker Interview/Assessment | 2,000 | 1 | 10/60 | 333
Total |  |  |  |  | 844

Jeffrey M. Zirger,
Lead, Information Collection Review Office, Office of Public Health Ethics and Regulations, Office of Science, Centers for Disease Control and Prevention.

[FR Doc. 2024-17765 Filed 8-8-24; 8:45 am]

BILLING CODE 4163-18-P